DEPARTMENT OF ENERGY

Federal Energy Regulatory Commission

Notice of Effectiveness of Exempt Wholesale Generator Status

| Docket Nos.
NRG Solar Borrego I LLC | EG12-96-000
Energy Alternatives Wholesale, LLC | EG12-97-000
Brookfield Smoky Mountain Hydropower LLC | EG12-98-000
Horse Butte Wind I LLC | EG12-99-000
Ri- Corp. Development, Inc | EG12-100-000
Anacacho Wind Farm, LLC | EG12-101-000
Brandon Shores LLC | EG12-102-000
H.A. Wagner LLC | EG12-103-000
C.P. Crane LLC | EG12-104-000
GenOn Marsh Landing, LLC | EG12-105-000
Limon Wind, LLC | EG12-106-000
Limon Wind II, LLC | EG12-107-000

Take notice that during the month of October 2012, the status of the above-captioned entities as Exempt Wholesale Generators became effective by operation of the Commission's regulations. 18 CFR 366.7(a).

Dated: November 14, 2012.
Kimberly D. Bose,
Secretary.

[FR Doc. 2012-28154 Filed 11-19-12; 8:45 am]

BILLING CODE 6717-01-P